FEDERAL MINE SAFETY AND HEALTH REVIEW COMMISSION

Sunshine Act Meetings

FEDERAL REGISTER CITATION OF PREVIOUS ANNOUNCEMENT: 89 FR 12838.

PREVIOUSLY ANNOUNCED TIME AND DATE OF MEETING: 10 a.m., March 12, 2024.

CHANGES IN THE MEETING: This meeting is cancelled and will be rescheduled.

CONTACT PERSON FOR MORE INFO: Emogene Johnson (202) 434-9935/(202) 708-9300 for TDD, Relay/1-800-877-8339 for toll free.

Dated: March 6, 2024.
Sarah L. Stewart,
Deputy General Counsel.

[FR Doc. 2024-05165 Filed 3-7-24; 11:15 am]

BILLING CODE P